OFFICE OF MANAGEMENT AND BUDGET

Financial Reporting for Grants and Cooperative Agreements: Federal Financial Report (FFR)

AGENCY: Office of Federal Financial Management, Office of Management and Budget.

ACTION: Submission for OMB Review; Comment Request.

Title: Federal Financial Report (FFR).

OMB No.: New Collection.

Description: The Office of Management and Budget is consolidating and replacing four existing financial reporting forms (SF-269, SF-269A, SF-272, and SF-272A) with a single Federal Financial Report (FFR). The purpose of the FFR is to give recipients of grants and cooperative agreements a standard format for reporting the financial status of their grants and cooperative agreements (hereby referred to collectively as awards). Federal awarding agencies developed the FFR as part of their implementation of the Federal Financial Assistance Management Improvement Act of 1999 (Pub. L. 106-107).

Respondents: Federal Grants making agencies and their grantees.

Additional Information: Copies of the proposed collection may be obtained by going to OMB's main Web page at http://www.OMB.gov and clicking on the “Grants Management,” then “Forms” then Proposed Government-Wide Standard Grants Reporting Forms links.

OMB Comment: OMB is required to make a decision concerning the collection of information between 30 and 60 days after publication of this document in the Federal Register. Therefore, a comment is best assured of having its full effect if OMB receives it within 30 days of publication. Interested parties are encouraged to send comments to the Office of Information and Regulatory Affairs, Attn: OMB Desk Officer for the Office of Federal Financial Management, Office of Management and Budget, Room 10235, Washington, DC 20503, Telephone: 202-395-7316/Fax: 202-395-6974 (these are not toll-free numbers), E-mail: OIRA_submission@omb.eop.gov within 30 days from the date of this publication in the Federal Register. Please include “FFR comments” in the subject line of the e-mail message; please also include the full body of your comments in the text of the message and as an attachment. Include your name, title, organization, postal address, telephone number, and e-mail address in your message.

I. Comments and Responses on December 7, 2007 Federal Register Notice

The December 7, 2007 announcement in the Federal Register [72 FR 69236] generated comments from Federal agencies and some grantees. These comments and responses to them can be found on the OMB Proposed Forms Web site at http://www.whitehouse.gov/omb/grants/grants_standard_report_forms.html.

II. Burden Estimate

Estimated Total Annual Burden Hours: 1,200,000.

Estimated Cost: There is no expected cost to the respondents or to OMB.

Annual Burden Estimates
Instrument | Number of respondents | Number of responses per respondent | Average burden hours per response | Total burden hours
Federal Financial Report (FFR) | 60,000 | 10 | 1.50 | 900,000
Federal Financial Report (FFR) Attachment | 60,000 | 10 | 0.50 | 300,000

III. Summary of Actions

The FFR provides a standard format from which agencies can determine data elements that recipients must complete to report on the cash management and financial status of single or multiple awards. Consistent with government-wide grant streamlining objectives, the FFR will result in the use of standard reporting period end dates and due dates for the submission of cash management and financial information.

As soon as possible after October 1, 2008, and no later than October 1, 2009, each agency must transition from the SF-269, SF-269A, SF-272, and SF-272A to the FFR, by requiring recipients to use the FFR for all financial reports submitted after the date it makes the transition. In making the transition, an agency would incorporate the requirement to use the FFR into terms and conditions of new and ongoing grant and cooperative agreement awards, State plans, and/or program regulations that specify financial reporting requirements.

Danny Werfel,
Deputy Controller.

[FR Doc. E8-18783 Filed 8-12-08; 8:45 am]

BILLING CODE 3110-01-P